DEPARTMENT OF COMMERCE

Foreign-Trade Zones Board

[Order No. 1159]

Expansion of Foreign-Trade Zone 154, Baton Rouge, LA, Area

Pursuant to its authority under the Foreign-Trade Zones Act of June 18, 1934, as amended (19 U.S.C. 81a-81u), the Foreign-Trade Zones Board (the Board) adopts the following Order:

Whereas, the Greater Baton Rouge Port Commission, grantee of Foreign-Trade Zone 154, submitted an application to the Board for authority to reorganize FTZ 154 by expanding existing Site 1 to include the port's entire deep-water complex; removing all of the existing Site 2; adding a new Site 2 in its place (Baton Rouge Metropolitan Airport); and, reducing the size of Site 3, Inland Rivers Marine Terminal (formerly Sun Plus Industrial Park), within the Baton Rouge Customs port of entry area (FTZ Docket 43-2000; filed 7/26/00);

Whereas, notice inviting public comment was given in the Federal Register (65 FR 47375, 8/2/00) and the application has been processed pursuant to the FTZ Act and the Board's regulations; and,

Whereas, the Board adopts the findings and recommendations of the examiner's report, and finds that the requirements of the FTZ Act and the Board's regulations are satisfied, and that the proposal is in the public interest;

Now, Therefore, the Board hereby orders:

The application to expand FTZ 154 is approved, subject to the Act and the Board's regulations, including Section 400.28.

Signed at Washington, DC, this 5th day of April 2001.
Timothy J. Hauser,
Acting Under Secretary for International Trade, Alternate Chairman, Foreign-Trade Zones Board.
Attest:
Dennis Puccinelli,
Executive Secretary.

[FR Doc. 01-9373 Filed 4-13-01; 8:45 am]

BILLING CODE 3510-DS-P